DEPARTMENT OF AGRICULTURE

Agricultural Marketing Service

[Doc.No. AMS-LPS-13-0088]

National Research, Promotion, and Consumer Information Programs; Request for Extension and Revision of a Currently Approved Information Collection and To Merge the Collections of Softwood Lumber and National Processed Raspberry Promotion, Research, and Information Programs

AGENCY: Agricultural Marketing Service, USDA.

ACTION: Notice and request for comments.

SUMMARY: In accordance with the Paperwork Reduction Act of 1995 (44 U.S.C. Chapter 35), this document announces the Agricultural Marketing Service's (AMS) intention to request approval from the Office of Management and Budget (OMB), for an extension of and revision to the currently approved information collection of the National Research, Promotion, and Consumer Information Programs; and request approval to merge two previously approved information collection packages, Softwood Lumber Research, Promotion, Consumer Education and Industry Information Order (Order) and National Processed Raspberry Promotion, Research, and Information Program into the National Research, Promotion, and Consumer Information Programs to form a single information collection. This Notice announces AMS' intention to merge the following collections: 0581-0264 “Softwood Lumber Research, Promotion, Consumer Education and Industry Information Order” and 0581-0258 “National Processed Raspberry Promotion, Research, and Information Program” into 0581-0093 “National Research, Promotion, and Consumer Information Program.” This action will keep all research and promotion collections under one generic collection since similar forms are used to collect information and to prevent duplication of burden.

DATES: Comments must be received by February 24, 2014.

ADDRESSES: Interested persons are invited to submit comments concerning this notice. Comments should be submitted online at www.regulations.gov or sent to James R. Brow, ANSI U.S. Department of Agriculture (USDA), 1400 Independence Avenue SW., Stop 0251, Room 2610-S1 Washington, DC 20250-0250, or by facsimile to (202) 720-1125. All comments should reference the document number, the date and the page number of this issue of the Federal Register. All comments received will be posted without change, including any personal information provided, online at http://www.regulations.gov and will be made available for public inspection at the above physical address during regular business hours.

FOR FURTHER INFORMATION CONTACT: James Brow at the above address by telephone at (202) 720-0633, or by email at james.brow@ams.usda.gov.

SUPPLEMENTARY INFORMATION: Title: National Research, Promotion, and Consumer Information Programs.

OMB Number: 0581-0093.

Expiration Date of Approval: May 31, 2014.

Type of Request: Extension and Revision of a currently approved information collection.

Abstract: National research and promotion programs are designed to strengthen the position of a commodity in the marketplace, maintain and expand existing domestic and foreign markets, and develop new uses and markets for specified agricultural commodities. AMS has the responsibility for implementing and overseeing programs for a variety of commodities including beef, blueberries, cotton, dairy, eggs, fluid milk, Hass avocados, honey, lamb, mangos, mushrooms, peanuts, popcorn, pork, potatoes, processed raspberries, softwood lumber, sorghum, soybeans, and watermelons. The enabling legislation includes the Beef Promotion and Research Act of 1985 [7 U.S.C. 2901-2911]; the Cotton Research and Promotion Act of 1966 [7 U.S.C. 2101-21181; the Dairy Production Stabilization Act of 1983 [7 U.S.C. 4501-4514]; the Fluid Milk Promotion Act of 1990 [7 U.S.C. 6401-64171; the Egg Research and Consumer Information Act [7 U.S.C. 2701-2718]; the Hass Avocado Promotion, Research, and Information Act [7 U.S.C. 7801-78131; the Mushroom Promotion, Research, and Consumer Information Act of 1990 [7 U.S.C. 6101-61121; the Popcorn Promotion, Research, and Consumer Information Act [7 U.S.C. 7481-74911; the Pork Promotion, Research, and Consumer Information Act of 1985 [7 U.S.C. 4801-4819]; the Potato Research and Promotion Act [7 U.S.C. 2611-26271; the Soybean Promotion, Research, and consumer Information Act [7 U.S.C. 6301-63111; the Watermelon Research and Promotion Act [7 U.S.C. 4901-49161; and the Commodity Promotion, Research, and Information Act of 1996 [7 U.S.C. 7411- 7425] (which governs the blueberry, honey, lamb, mango, peanut, processed raspberry, softwood lumber, and sorghum programs). These programs appear in the Code of Federal Regulations 7 CFR, parts 1150 and 1160, and parts 1205 through 1260.

These programs carry out projects relating to research, consumer information, advertising, sales, promotion, producer information, market development, and product research to assist, improve, or promote the marketing, distribution, and utilization of their respective commodities. Approval of the programs is required through referendum of affected parties. The programs are administered by the industry boards composed of producer, handler, processor, manufacturers, and in some cases, importer and public members appointed by the Secretary of Agriculture. Program funding is generated through assessments on designated industry segments.

The Secretary also approves the board's budgets, plans, and projects. These responsibilities have been delegated to AMS. The applicable commodity program areas within AMS have direct oversight of the respective programs.

The information collection requirements in this request are essential to carry out the intents of the various Acts authorizing such programs, thereby providing a means of administering the programs. The objective in carrying out this responsibility includes assuring the following: (1) Funds are collected and properly accounted for; (2) expenditures of all funds are for the purposes authorized by the enabling legislation; and, (3) the board's administration of programs conforms to USDA policy. The forms covered under this collection require the minimum information necessary to effectively carry out the requirements of the respective orders, and their use is necessary to fulfill the intents of the Acts as expressed in orders. The information collected is used only by authorized employees of the various boards and authorized employees of USDA.

The various boards utilize a variety of forms including: reports concerning status information such as handler and importer reports; transaction reports; exemption from assessment forms and reimbursement forms; forms and information concerning board nominations and selection and acceptance statements; certification of industry organizations; and recordkeeping requirements. The forms and information covered under this information collection require minimum information necessary to effectively carry out the requirements of the programs and their use is necessary to fulfill the intent of the applicable authority.

As part of this renewal collection for the National Research, Promotion, and Consumer Information Programs (0581-0093), AMS is merging the “Softwood Lumber Research, Promotion, Consumer Education and Industry Information Order (0581-0264),” and the “National Processed Raspberry Promotion, Research, and Information Program (0581-0258)” and including the information collection requirements currently approved into one collection (0581-0093). Upon approval of this revision to 0581-0093, AMS will submit a Discontinuation Request for 0581-0264 and 0581-0258 to retire these collections. This action will keep all research and promotion collections under one generic collection since similar forms are used to collect information and to prevent duplication of burden.

AMS is committed to comply with the E-Government Act, which requires Government agencies in general to provide the public the option of submitting information or transacting business electronically to the maximum extent possible.

For National Research, Promotion, and Consumer Information Program—0581-0093

Estimate of Burden: Public reporting burden for this collection of information is estimated to average 0.84 hours per response.

Respondents: Producers, processors, handlers, manufacturers, importers, and others in the marketing chain of a variety of agricultural commodities, and recordkeepers.

Estimated Number of Respondents: 429,425

Estimated Total Annual Responses: 509,111

Estimated Number of Responses per Respondent: 1.18

Estimated Total Annual Burden on Respondents: 3.00

For Softwood Lumber Research, Promotion, Consumer Education and Industry Information Order—0581-0264

Estimate of Burden: Public reporting burden for this collection of information is estimated to average 0.416 hour per response.

Respondents: Domestic manufacturers and importers.

Estimated Number of Respondents: 1,478.

Estimated Total Annual Responses: 4,495.

Estimated Number of Responses per Respondent: 3.04.

Estimated Total Annual Burden on Respondents: 1,871.

For National Processed Raspberry Promotion, Research, and Information Program—0581-0258

Estimate of Burden: Public reporting burden for this collection of information is estimated to average 0.36 hour per response.

Respondents: Producers, first handlers, importers, foreign producers, and at-large nominees.

Estimated Number of Respondents: 297.

Estimated Total Annual Responses: 788.

Estimated Number of Responses per Respondent: 2.65.

Estimated Total Annual Burden on Respondents: 282.

Comments are invited on: (1) Whether the proposed collection of information is necessary for the proper performance of functions of the agency, including whether the information will have practical utility; (2) the accuracy of the agency's estimate of burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

All responses to this document will be summarized and included in the request for OMB approval. All comments will become a matter of public record.

Authority: 44 U.S.C. Chapter 35.

Dated: December 17, 2013.
Rex A. Barnes,
Associate Administrator.

[FR Doc. 2013-30377 Filed 12-24-13; 8:45 am]

BILLING CODE M